NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (CEOSE) Advisory Committee Meeting (1173).

Dates/Time: June 24, 2015 1:00 p.m.-5:00 p.m.; June 25, 2015 8:30 a.m.-3:30 p.m.

Place: National Science Foundation (NSF), 4201 Wilson Boulevard, Arlington, VA 22230.

To help facilitate your entry into the building, please contact Vickie Fung (vfung@nsf.gov) on or prior to June 18, 2015.

Type of Meeting: Open.

Contact Person: Dr. Joan Burrelli, Acting CEOSE Executive Secretary, Office of Integrative Activities (OIA), National Science Foundation, 4201 Wilson Boulevard, Arlington, VA 22230. Telephone Numbers: 703-292-8040/Email: jburrell@nsf.gov.

Minutes: Meeting minutes and other information may be obtained from the Acting CEOSE Executive Secretary at the above address or the Web site at http://www.nsf.gov/od/iia/activities/ceose/index.jsp.

Purpose of Meeting: To study data, programs, policies, and other information pertinent to the National Science Foundation and to provide advice and recommendations concerning broadening participation in science and engineering.

Agenda

Opening Statement by the CEOSE Chair

NSF Executive Liaison Report

Discussions:

Leadership Panel Discussion: NSF INCLUDES (Inclusion across the Nation of Communities of Learners that have been Underrepresented for Diversity in Engineering and Science)

NSF Broadening Participation Framework for Action

Thematic Focus of Women and Girls in STEM

Reports of CEOSE Liaisons to NSF Advisory Committees

2015-2016 CEOSE Biennial Report to Congress

Updates from the Federal Liaisons

Dated: June 4, 2015.
Crystal Robinson,
Committee Management Officer.

[FR Doc. 2015-14036 Filed 6-8-15; 8:45 am]

BILLING CODE 7555-01-P